DEPARTMENT OF EDUCATION

Reopening; Applications for New Awards; Education Research and Special Education Research Grant Programs

AGENCY: Institute of Education Sciences, Department of Education.

ACTION: Notice.

SUMMARY: On May 4, 2020, we published in the Federal Register a notice inviting applications (NIA) for the fiscal year (FY) 2021 Education Research and Special Education Research Grant Programs competitions, Catalog of Federal Domestic Assistance (CFDA) numbers 84.305A, 84.305B, 84.305C, 84.305R, 84.324A, 84.324B, 84.324P, and 84.324R. The NIA established a deadline date of August 20, 2020, for the transmittal of applications. This notice reopens the competition until September 8, 2020, for certain prospective eligible applicants described elsewhere in this notice.

DATES: Deadline for Transmittal of Applications: September 8, 2020.

FOR FURTHER INFORMATION CONTACT: For the contact person associated with a particular research competition, please refer to the chart published in the Federal Register on May 4, 2020 (85 FR 26445) and available at www.govinfo.gov/app/details/FR-2020-05-04/2020-09446, as well as in the relevant Request for Application (available at https://ies.ed.gov/funding/) and application package.

If you use a telecommunications device for the deaf (TDD) or a text telephone (TTY), call the Federal Relay Service (FRS), toll free, at 1-800-877-8339.

SUPPLEMENTARY INFORMATION: On May 4, 2020, we published the NIA for the FY 2021 Education Research and Special Education Research Grant Programs competitions in the Federal Register (85 FR 26445). We are reopening this competition in order to allow applicants, including personnel that are critical to the preparation and submission of applications, more time to prepare and submit applications that were delayed by the severe storm disaster declaration in Iowa or the wildfire disaster declarations in California, Nevada, Oregon, and Washington.

Eligibility: The extension of the application deadline date in this notice applies to eligible applicants under the FY 2021 Education Research and Special Education Research Grant Programs competitions, CFDA numbers 84.305A, 84.305B, 84.305C, 84.305R, 84.324A, 84.324B, 84.324P, and 84.324R, that are affected by Fire Management Assistance Declarations in California (FEMA Disaster designations 5331, 5332, 5329), Nevada (FEMA Disaster designation 5328), Oregon (FEMA Disaster designation 5327), and Washington (FEMA Disaster designation 5330) and a Major Disaster Declaration in Iowa (FEMA Disaster designation 4557). See www.fema.gov/disasters/.

Each application submitted under this Notice must include an assurance that the applicant meets the eligibility requirements for the jurisdictions covered by the FEMA designations noted above. The assurance may either be based on (1) the location of the applicant institution or (2) the location(s) of the essential staff, in which case the explanation should include the name(s) and remote work location(s) for the personnel or consultants key to the preparation of the application.

Applicants that are eligible for an extension under this notice (because they are located in, or have personnel or consultants that are critical to the timely development and submission of applications who are located in, one of the areas described in the preceding paragraph) and have already timely submitted applications under the FY 2021 Education Research and Special Education Research Grant Programs competitions may resubmit applications but are not required to do so. If a new application is not submitted, the Department will use the application that was submitted by the original deadline. If a new application is submitted, the Department will consider the application that is last submitted and timely received. Applications that did not meet the original deadline must use the application package for the reopened competition, available at grants.gov, to be considered for review.

Note: All information in the NIA for this competition remains the same, except for the deadline for the transmittal of applications.

Program Authority: 20 U.S.C. 9501 et seq.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Mark Schneider,
Director, Institute of Education Sciences.

[FR Doc. 2020-19391 Filed 9-1-20; 8:45 am]

BILLING CODE 4000-01-P